ADVISORY COUNCIL ON HISTORIC PRESERVATION

Notice of Availability of the Environmental Assessment (EA) for the Program Comments Under 36 CFR 800.14(e) Regarding Department of Defense Historic Properties Management

AGENCY: Advisory Council on Historic Preservation.

ACTION: Notice of availability of Environmental Assessment (EA).

SUMMARY: This announces the availability of the Department of Defense's EA for the Program Comments under 36 CFR 800.14(e) Regarding Department of Defense Historic Properties Management. The Army, as the Service designated as lead for this action, intends to sign a Finding of No Significant Impact (FONSI) unless public comments identify significant impacts or issues that have not been considered.

DATES: Submit comments on or before November 26, 2004.

ADDRESSES: Requests for copies of the EA may be directed by mail to the US Army Environmental Center, ATTN: SFIM-AEC-PA (ATTN: Mr. Robert DiMichele) Aberdeen Proving Ground, MD 21010-5401, or by phone (410) 436-2556. The DoD also solicits written comments on the EA. Such comments must be submitted by mail to the same address no later than the date mentioned above.

FOR FURTHER INFORMATION CONTACT: Mr. Lee Foster, Cultural Resources Action Officer, Office of Director of Environmental Programs, at (703) 601-1591.

SUPPLEMENTARY INFORMATION: Section 106 of the National Historic Preservation Act (section 106), 16 U.S.C. 470f, requires Federal agencies to take into account the effects of their undertakings on historic properties, and provide the Advisory Council on Historic Preservation (ACHP) a reasonable opportunity to comment on those undertakings. The regulations implementing Section 106 are found at 36 CFR part 800.

The Department of Defense (DoD) has identified a programmatic approach to comply with the requirements of section 106 for the treatment of historic properties including Cold War era Unaccompanied Personnel Housing (UPH), World War II and Cold War era Ammunition Storage Facilities, and World War II and Cold War era Army Ammunition Production Facilities and Plants.

These approximately 45,000 buildings and structures are about 11% of the overall DoD inventory of 397,389 buildings and structures. UPH encompasses all current and former DoD enlisted barracks, bachelor officer quarters, and transient quarters constructed during the period commencing in 1946 and ending in 1974. Ammunition Storage Facilities comprises all DoD Ammunition bunkers and magazines constructed from 1939 through 1974. The third category includes Army Ammunition Plants constructed from 1939 to 1974.

The DoD engaged in a major construction program during these periods in order to address the shortage of housing, storage facilities, and production plants that developed out of World War II mobilization requirements and the increased size of the standing military during the Cold War era. A significant portion of these buildings and structures are nearing the age of fifty years old, triggering the need for the DoD to consider, in accordance with Section 106, these buildings and structures.

In order to support the military mission, the DoD needs to develop a programmatic approach to Section 106 compliance for each of these categories of property types. Management activities affecting these buildings and structures occur on a daily basis, including but not limited to ongoing operations, maintenance and repair, rehabilitation, renovation, mothballing, ceasing maintenance activities, new construction, demolition, deconstruction and salvage, and transfer, sale, lease and/or closure.

These programs comments are meant to directly support improvement of quality of life, safety and advancements in technology that directly affect soldiers. The DoD is developing a Barracks Modernization Program to provide better quarters for unaccompanied personnel. As the military adopts new ammunition technologies to meet new environmental and war-fighting requirements, storage needs are likely to change, resulting in modifications to existing storage facilities or the need to re-use or excess those that cannot be adapted. To allow for advancement in production technology and to facilitate planned excessing actions as well as possible future Base Realignment and Closure activities in the most effective manner for a large number of properties, the Army is planning multiple actions at Army Ammunition Plants and Production Facilities.

Development of the EA was preceded by coordination with the ACHP. The EA gives full consideration of the request and implementation of Program Comments in accordance with 36 CFR 800.14(e) as the proposed action, and two reasonable alternatives to the proposed action.

The EA considered, evaluated and assessed alternatives: (i) The no action alternative (continued project-by-project review under 36 CFR Part 800); (ii) the Programmatic Agreement Alternative; and (iii) the proposed action alternative of requesting and implementing Program Comments in accordance with 36 CFR 800.14(e). Consideration of the alternatives analyzed in the EA leads to the DoD's decision to request and implement Program Comments.

The no action alternative would allow a continued ad hoc approach to compliance with Section 106 and management of historic properties. With the anticipated growth in DoD's historic properties inventory, continued review of undertakings on a case-by-case basis will likely remain inefficient and lead to increased program costs. This could have adverse impacts on the ability of the DoD to provide suitable housing for unaccompanied personnel, safe storage of ammunition, and improved and updated ammunition production facilities.

The Programmatic Agreement (PA) Alternative better meets the stated purpose and need than the no action alternative since it would provide an installation-specific or regional programmatic basis for Section 106 compliance. PAs must be negotiated with appropriate stakeholders such as State and Tribal Historic Preservation Officers, Indian tribes, and other consulting parties. This approach, however, would involve lengthy and complex negotiations that have no specified time limits, and which might ultimately still require some case-by-case review. Also, after a PA goes into effect, it may be unilaterally terminated by any signatory, limiting the long-term effectiveness and consistency of such agreements. In addition, installation-specific or regional PAs would not address all DoD NHPA Section 106 compliance responsibilities in a single agreement, and would not provide for an economy of scale in the treatment of agency-wide resources. Like the no action alternative, the PA alternative could result in adverse impacts to the DoD's need to provide suitable housing for unaccompanied personnel, safely store ammunition, and improve and update ammunition production facilities.

The proposed action more squarely meets the stated purpose and need for action and provides the necessary balance between preservation and the need to expeditiously provide suitable housing for unaccompanied personnel, safely store ammunition, and improve and update ammunition production facilities. While the proposed action has the potential to adversely impact historic properties, those impacts are not likely to be significant. The DoD will ensure that effects on historic properties are considered and addressed up front through programmatic treatment.

The Council on Environmental Quality regulations, at 40 CFR 1501.6, encourage Federal lead agencies to request that other Federal agencies with special expertise concerning a relevant environmental issue associated with a proposed action to participate as a cooperating agency in the National Environmental Policy Act (NEPA) process. The DoD recognizes that the ACHP has special expertise with respect to historic properties, and, in particular, on the review of Federal agency undertakings under Section 106 of the NHPA. The ACHP is responsible for reviewing, and, if appropriate, issuing program comments in accordance with 36 CFR 800.14(e)(1)-(6). For these reasons, DoD has requested that the ACHP participate as a consulting party in the drafting, review and release of this EA. The ACHP has agreed to participate as a cooperating agency and, in that role, is publishing this notice of availability on behalf of the DoD. The ACHP's agreement to publish this DoD notice of availability does not in any way signify any ACHP endorsement, or lack thereof, of the program comments or commitment to ultimately adopt or reject them. Such decisions will be made by the ACHP pursuant to the process under 36 CFR 800.14(e).

Authority: 40 CFR 1501.6

Dated: October 21, 2004.
John M. Fowler,
Executive Director (ACHP).

[FR Doc. 04-23952 Filed 10-25-04; 8:45 am]

BILLING CODE 4310-10-M